FEDERAL COMMUNICATIONS COMMISSION

Notice of Public Information Collection(s) Being Reviewed by the Federal Communications Commission for Extension Under Delegated Authority, Comments Requested

August 1, 2007.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 9, 2007. If you anticipate that you will be submitting comments, but find it difficult to do so within the period of time allowed by this notice, you should advise the contact below as soon as possible.

ADDRESSES: You may submit all Paperwork Reduction Act (PRA) comments by e-mail or U.S. post mail. To submit you comments by e-mail, send them to PRA@fcc.gov. To submit your comments by U.S. mail, mark them to the attention of Cathy Williams, Federal Communications Commission, Room 1-C823, 445 12th Street SW., Washington, DC 20554 and Jasmeet Seehra, Office of Management and Budget (OMB) Desk Officer, Room 10236 NEOB, 725 17th Street, NW., Washington, DC 20503 or via Internet at Jasmeet_K._Seehra@omb.eop.gov or via fax (202) 395-5167.

FOR FURTHER INFORMATION CONTACT: For additional information about the information collection(s), send an e-mail to PRA@fcc.gov or contact Cathy Williams at (202) 418-2918.

SUPPLEMENTARY INFORMATION: OMB Control Number: 3060-0982.

Title: Implementation of LPTV Digital Data Services Pilot Project.

Form Number: Not applicable

Type of Review: Extension of currently approved collection.

Respondents: Business or other for-profit entities.

Number of Respondents: 14.

Estimated Hours per Response: 0.25 hours—15 hours.

Frequency of Response: Recordkeeping requirement; Third party disclosure requirement; On occasion reporting requirement; Quarterly and Annual reporting requirements.

Total Annual Burden: 672 hours.

Total Annual Cost: $51,800.

Privacy Impact Assessment: No impact(s).

Needs and Uses: This collection implements the provisions of the Low Power TV (LPTV) Pilot Project Digital Data Services Act (DDSA). The DDSA mandates that the Commission issue regulations establishing a pilot project pursuant to which specified LPTV licensees or permittees can provide digital data services to demonstrate the feasibility of using LPTV stations to provide high-speed wireless digital data service. The Commission is required to implement reporting requirements under the statute. The data collected will be used to ensure that the proposal will not cause interference to other authorized services and to evaluate the project.

Federal Communications Commission.
Marlene H. Dortch,
Secretary.

[FR Doc. E7-15441 Filed 8-7-07; 8:45 am]

BILLING CODE 6712-01-P